DEPARTMENT OF ENERGY

Federal Energy Regulatory Commission

[Docket No. RP96-190-026]

Colorado Interstate Gas Company; Notice of Proposed Changes in FERC Gas Tariff

January 9, 2004.

Take notice that on December 10, 2003, Colorado Interstate Gas Company (CIG) tendered for filing and acceptance by the Federal Energy Regulatory Commission, First Revised Sheet No. 11B to its FERC Gas Tariff, First Revised Volume No.1.

CIG states that the tariff sheet updates a previously filed negotiated rate transaction and is proposed to become effective January 1, 2004.

Any person desiring to be heard or to protest said filing should file a motion to intervene or protest with the Federal Energy Regulatory Commission, 888 First Street, NE., Washington, DC 20426, in accordance with sections 385.214 and 385.211 of the Commission's rules and regulations. All such motions or protests must be filed in accordance with sections 385.214 or 385.211 of the Commission's rule and regulations. Protests will be considered by the Commission in determining the appropriate action to be taken, but will not serve to make protestants parties to the proceeding. Any person wishing to become a party must file a motion to intervene. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or TTY (202) 502-8659. The Commission strongly encourages electronic filings. See 18 CFR 385.2001(a) (1)(iii) and the instructions on the Commission's Web site under the “e-Filing” link.

Comment Date: January 15, 2004.

Magalie R. Salas,
Secretary.

[FR Doc. E4-73 Filed 01-15-04; 8:45 am]

BILLING CODE 6717-01-P